ENVIRONMENTAL PROTECTION AGENCY

[FRL-7084-1]

Agency Information Collection Activities: Proposed Collection; Comment Request; See List of ICRs Planned To Be Submitted in Section A

AGENCY: Environmental Protection Agency (EPA).

ACTION: Notice.

SUMMARY: In compliance with the Paperwork Reduction Act (44 U.S.C. 3501 et seq.), this document announces that EPA is planning to submit for renewal the following two current Information Collection Requests (ICR) to the Office of Management and Budget (OMB): Best Management Practices (“BMP”), Effluent Limitations Guidelines and Standards, Pulp, Paper, and Paperboard Manufacturing Category (EPA ICR No. 1829.02) and Milestones Plan, Effluent Limitations Guidelines and Standards, Bleached Papergrade Kraft and Soda Subcategory, Pulp, Paper, and Paperboard Manufacturing Category (EPA ICR No. 1877.02). OMB had approved the current BMP information collection on March 2, 1999, and had approved the current milestones plan collection on January 13, 1999. Before submitting the renewal ICRs to OMB for review and approval, EPA is soliciting comments on specific aspects of the information collections as described at the beginning of Supplementary Information.

DATES: Comments must be submitted on or before December 17, 2001.

ADDRESSES: Contact Sandy Farmer at EPA by phone at (202) 260-2740, by e-mail at farmer.sandy@epa.gov, or download the ICR off the Internet at http://www.epa.gov/icr and refer to EPA ICR No. 1829.02 or 1877.02. A hard copy of an ICR may be obtained without charge by calling the identified information contact individual for each ICR in Section B of the Supplementary Information.

FOR FURTHER INFORMATION CONTACT: For specific information on the individual ICRs see Section B of the Supplementary Information.

SUPPLEMENTARY INFORMATION:

For All ICRs

An Agency may not conduct or sponsor, and a person is not required to respond to, a collection information unless it displays a currently valid OMB control number. The OMB control numbers for EPA's regulations are displayed in 40 CFR part 9.

The EPA would like to solicit comments to:

(i) Evaluate whether the proposed collection of information is necessary for the proper performance of the functions of the Agency, including whether the information will have practical utility;

(ii) Evaluate the accuracy of the Agency's estimate of the burden of the proposed collection of information;

(iii) Enhance the quality, utility, and clarity of the information to be collected; and

(iv) Minimize the burden of the collection of information on those who are to respond, including through the use of automated collection techniques or other forms of information technology, e.g., permitting electronic submission of responses.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

A. List of ICRs Planned To Be Submitted

In compliance with the Paperwork Reduction Act (44 U.S.C. 3501 et seq.), this notice announces that EPA is planning to submit for renewal the following two Information Collection Requests (ICR) to the Office of Management and Budget (OMB):

(1) Best Management Practices, Effluent Limitations Guidelines and Standards, Pulp, Paper, and Paperboard Manufacturing Category, EPA ICR No. 1829.02, OMB Control No. 2040-0207, Expires on 03/31/2002;

(2) Milestones Plan, Effluent Limitations Guidelines and Standards, Bleached Papergrade Kraft and Soda Subcategory, Pulp, Paper, and Paperboard Manufacturing Category, EPA ICR No. 1877.02, OMB Control No. 2040-0202, Expires on 01/31/2002.

B. Contact Individuals for ICRs

(1) Best Management Practices, Effluent Limitations Guidelines and Standards, Pulp, Paper, and Paperboard Manufacturing Category, Sandy Farmer, (202) 260-2740, farmer.sandy@epa.gov. (OMB Control No. 2040-0207; EPA ICR No. 1829.01) expiring 03/31/2002;

(2) Milestones Plan, Effluent Limitations Guidelines and Standards, Bleached Papergrade Kraft and Soda Subcategory, Pulp, Paper, and Paperboard Manufacturing Category, Sandy Farmer, (202) 260-2740, farmer.sandy@epa.gov. (OMB Control No. 2040-0202; EPA ICR No. 1877.01) expiring 01/31/2002.

C. Individual ICRs

(1) Best Management Practices, Effluent Limitations Guidelines and Standards, Pulp, Paper, and Paperboard Manufacturing Category, EPA ICR No. 1829.01, OMB Control No. 2040-0207, Expires on 03/31/2002.

Affected Entities: Entities potentially affected by this action are those operations that chemically pulp wood fiber using kraft or soda methods to produce bleached papergrade pulp, paperboard, coarse paper, tissue paper, fine paper, and/or paperboard; those operations that chemically pulp wood fiber using papergrade sulfite methods to produce pulp and/or paper; and State and local governments which regulate areas where such operations are located.

Abstract: The Environmental Protection Agency (EPA) has established Best Management Practices (BMPs) provisions as part of final amendments to 40 CFR part 430, the Pulp, Paper and Paperboard Point Source Category promulgated on April 15, 1998 (see 63 FR 18504). These provisions, promulgated under the authorities of Sections 304, 307, 308, 402, and 501 of the Clean Water Act, require that owners or operators of bleached papergrade kraft and soda mills and papergrade sulfite mills implement site-specific BMPs to prevent or otherwise contain leaks and spills of spent pulping liquors, soap and turpentine and to control intentional diversions of these materials. See 40 CFR 430.03.

EPA has determined that these BMPs are necessary because the materials controlled by these practices, if spilled or otherwise lost, can interfere with wastewater treatment operations and lead to increased discharges of toxic, nonconventional, and conventional pollutants. For further discussion of the need for BMPs, see Section VI.B.7 of the preamble to the amendments to 40 CFR part 430. See 63 FR at 18561-66.

The BMP program includes information collection requirements that are intended to help accomplish the overall purposes of the program by, for example, training personnel, see 40 CFR 430.03(c)(4), analyzing spills that occur, see 40 CFR 430.03(c)(5), identifying equipment items that might need to be upgraded or repaired, see 40 CFR 430.03(c)(2), and performing monitoring—including the operation of monitoring systems—to detect leaks, spills and intentional diversion and generally to evaluate the effectiveness of the BMPs, see 40 CFR 430.03(c)(3), (c)(10), (h), and (i). The regulations also require mills to develop and, when appropriate, amend plans specifying how the mills will implement the specified BMPs, and to certify to the permitting or pretreatment authority that they have done so in accordance with good engineering practices and the requirements of the regulation. See 40 CFR 430.03(d), (e) and (f). The purpose of those provisions is, respectively, to facilitate the implementation of BMPs on a site-specific basis and to help the regulating authorities to ensure compliance without requiring the submission of actual BMP plans. Finally, the recordkeeping provisions are intended to facilitate training, to signal the need for different or more vigorously implemented BMPs, and to facilitate compliance assessment. See 40 CFR 430.03(g).

EPA has structured the regulation to provide maximum flexibility to the regulated community and to minimize administrative burdens on National Pollutant Discharge Elimination System (NPDES) permit and pretreatment control authorities that regulate bleached papergrade kraft and soda and papergrade sulfite mills. Although EPA does not anticipate that mills will be required to submit any confidential business information or trade secrets as part of this ICR, all data claimed as confidential business information will be handled by EPA pursuant to 40 CFR part 2.

Burden Statement: The recurring burden for a mill to periodically review and amend the BMP plan, prepare spill reports, perform additional monitoring, hold refresher training, and conduct recordkeeping and reporting is estimated to be 617, 641 and 665 hours annually per mill for simple, moderately complex and complex mills, respectively. The total recurring cost for mills associated with the BMP requirements is estimated at $1,807,670.

The recurring burden to State NPDES and pretreatment control authorities is estimated at ten hours per year per facility for reviewing periodic (e.g., annual or semi-annual) monitoring reports and conducting compliance reviews. The total recurring costs for State NPDES and pretreatment control authorities is estimated at $32,100.

The recurring burden to EPA is estimated at eight hours per year per facility for support of State and local authority efforts in reviewing periodic (e.g., annual or semi-annual) monitoring reports and conducting compliance reviews. The total recurring costs for EPA is estimated at $25,680.

(2) Milestones Plan, Effluent Limitations Guidelines and Standards, Bleached Papergrade Kraft and Soda Subcategory, Pulp, Paper, and Paperboard Manufacturing Category, EPA ICR No. 1877.01, OMB Control No. 2040-0202, Expires on 01/31/2002.

Affected Entities: Entities potentially affected by this action are those existing, direct discharging mills with operations that chemically pulp wood fiber using kraft or soda methods to produce bleached papergrade pulp, paperboard, coarse paper, tissue paper, fine paper, and/or paperboard and that choose to participate in the Voluntary Incentives Program established under 40 CFR 430.24(b).

Abstract: The Environmental Protection Agency (EPA) has established the Milestones Plan requirements as an element of the Voluntary Advanced Technology Incentives Program (VATIP) codified at 40 CFR 430.24(b). The Milestone Plan requirements were promulgated as amendments to VATIP on July 7, 1999 (see 64 FR 36582) and are codified at 40 C.F.R. 430.24(b)(3). The Milestones Plan provisions, promulgated under the authorities of Sections 301, 304, 306, 308, 402 and 501 of the Clean Water Act, require owners or operators of bleached papergrade kraft and soda mills enrolled in the VATIP to submit information to describe each envisioned new technology component or process modification the mill intends to implement in order to achieve the VATIP Best Available Technology (BAT) limits, including a master schedule showing the sequence of implementing new technologies and process modifications and identifying critical-path relationships within the sequence.

EPA has determined that the Milestones Plan will provide valuable benchmarks for reasonable inquiries into progress being made by participating mills toward achievement of the interim and ultimate Tier limits of the VATIP and will offer the necessary flexibility to the mill and the permit writer so that the milestones selected to be incorporated into the mill's NPDES permit reflect the unique situation of the mill.

The Milestones Plan must include the following information for each new individual technology or process modification: (1) A schedule of anticipated dates for associated construction, installation, and/or process changes; (2) the anticipated dates of completion for those steps; (3) the anticipated date that the Advanced Technology process or individual component will be fully operational; (4) and the anticipated reductions in effluent quantity and improvements in effluent quality as measured at the bleach plant (for bleach plant, pulping area and evaporator condensates flow and BAT parameters other than Adsorbable Organic Halides (AOX)) and the end of the pipe (for AOX). See 40 CFR 430.24(c)(3). For those technologies or process modifications that are not commercially available or demonstrated on a full-scale basis at the time of plan development, the Plan must include a schedule for initiating and completing research (if necessary), process development, and mill trials. See 40 CFR 430.24(c)(3)(i). The Plan must also include contingency plans in the event that any of the technologies or processes specified in the Milestones Plan need to be adjusted or alternative approaches developed to ensure that the ultimate tier limits are achieved by the deadlines specified in 40 CFR 430.24(b)(4)(ii). See 40 CFR 430.24(c)(4).

EPA has structured the Plan to provide maximum flexibility to the regulated community and to minimize administrative burdens on NPDES permit authorities that regulate bleached papergrade kraft and soda mills. All data claimed as confidential business information (“CBI”) or trade secrets submitted by the mills as part of this ICR will be handled by EPA pursuant to 40 CFR part 2. If a mill claims all or part of the milestones plan as CBI, the mill must prepare and submit to the NPDES permitting authority a summary of the plan for public release. 40 CFR 430.24(c). However, EPA does not believe that submission of any CBI will be necessary and, therefore, burden associated with such submissions has not been included in the ICR.

Burden Statement: EPA estimates that 29 mills will voluntarily enroll into VATIP. The burden for a mill (which chooses to participate voluntarily in the incentives program) to prepare and submit a Milestones Plan is estimated to average approximately 120 hours per respondent. This is a one-time burden. State NPDES permitting authorities' burden to review the Milestones Plans is estimated at 16 hours per respondent as an initial burden with an average recurring annual review burden of 6 hours per respondent. Agency burden to review the Milestones Plans is estimated at 20 hours per respondent as an initial burden with an average recurring annual review burden of 4 hours per respondent. The total initial cost for the 29 mills anticipated to enroll in the VATIP and thus be required to develop a Milestones Plan is estimated at $480,900. The total initial burden incurred by State permitting authorities and EPA for review of the Milestones Plans is estimated at $15,680 and $19,600, respectively. The total recurring burden incurred by State permitting authorities and EPA for periodic review of the Milestones Plans is estimated at $5,880 and $3,920, respectively. There is no recurring burden for mill respondents associated with this information collection.

Dated: October 5, 2001.
Geoffrey H. Grubbs,
Director, Office of Science and Technology

[FR Doc. 01-25968 Filed 10-15-01; 8:45 am]

BILLING CODE 6560-50-P